DEPARTMENT OF THE INTERIOR

Bureau of Land Management

[LLOR936000-L14300000-ET0000; HAG-12-0183; OROR-47552]

Public Land Order No. 7802; Extension of Public Land Order No. 6944; Oregon

AGENCY: Bureau of Land Management, Interior.

ACTION: Public Land Order.

SUMMARY: This order extends the duration of the withdrawal created by Public Land Order No. 6944 for an additional 20-year period. The extension is necessary to continue protection of the cultural and historical values of the Granite Chinese Walls Historic Site, which would otherwise expire on September 30, 2012.

DATES: Effective Date: October 1, 2012.

FOR FURTHER INFORMATION CONTACT: Michael L. Barnes, Bureau of Land Management, Oregon/Washington State Office, 333 SW. 1st Ave., Portland, Oregon 97204, 503-808-6155, or Dianne Torpin, United States Forest Service, Pacific Northwest Region, 333 SW. 1st Ave., Portland, Oregon 97204, 503-808-2422. Persons who use a telecommunications device for the deaf (TDD) may call the Federal Information Relay Service (FIRS) at 1-800-877-8339 to contact either of the above individuals. The FIRS is available 24 hours a day, 7 days a week, to leave a message or question with either of the above individuals. You will receive a reply during normal business hours.

SUPPLEMENTARY INFORMATION: The purpose for which the withdrawal was first made requires this extension to continue protection of the Granite Chinese Walls Historic Site in the Wallowa-Whitman National Forest. The withdrawal extended by this order will expire on September 30, 2032, unless as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6944 (57 FR 45321 (1992)), which withdrew approximately 43.75 acres of National Forest System land from location and entry under the United States mining laws (30 U.S.C. chapter 2), but not from leasing under the mineral leasing laws, to protect the Granite Chinese Walls Historic Site, is hereby extended for an additional 20-year period until September 30, 2032.

Dated: September 13, 2012.
Rhea S. Suh,
Assistant Secretary—Policy, Management and Budget.

[FR Doc. 2012-23654 Filed 9-25-12; 8:45 am]

BILLING CODE 3410-11-P